DEPARTMENT OF TRANSPORTATION

Federal Aviation Administration

[Policy Statement No. ANM-03-111-12]

ATC Transponder Operation

AGENCY: Federal Aviation Administration (FAA), DOT.

ACTION: Notice of proposed policy; request for comments.

SUMMARY: The Federal Aviation Administration (FAA) announces the availability of proposed policy on guidance for an acceptable means of showing compliance with the proposed requirements of 14 CFR 121.346, ATC Transponder Operation.

DATES: Send your comments on or before April 4, 2002.

ADDRESSES: Address your comments to the individual identified under FOR FURTHER INFORMATION CONTACT.

FOR FURTHER INFORMATION CONTACT: Kenneth Schroer, Federal Aviation Administration, Transport Airplane Directorate, Transport Standards Staff, Airplane and Flightcrew Interface Branch, ANM-111, 1601 Lind Avenue, SW., Renton, WA 98055-4056; telephone (425) 227-1154; fax (425) 227-1320; e-mail: kenneth.schroer@faa.gov.

SUPPLEMENTARY INFORMATION:

Comments Invited

The proposed policy is available on the Internet at the following address: http:www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-111-12.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The policy memorandum provides a summary of policy that should be applied when certificating the transponder installations pursuant to the proposed rule. Aircraft Certification Offices (ACO) should apply the policy summarized in the memorandum to such new and amended type certificate (TC) and supplemented type certificate (STC) certification programs. The memo ensures a standardized approach in certification independent of ACO or Designated Alteration Station (DAS) geographical location.

Issued in Renton, Washington, on February 25, 2003.
Mike Kaszycki,
Acting Manager, Transport Airplane Director, Aircraft Certification Service.

[FR Doc. 03-5131 Filed 3-4-03; 8:45 am]

BILLING CODE 4910-13-M